DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5:00 p.m. in Room 4211, U.S. Department of Commerce, 14th Street and Constitution Avenue, NW., Washington, DC.

Docket Number: 01-001. Applicant: St. Louis Science Center, 5050 Oakland Avenue, St. Louis, MO 63110. Instrument: Universal Planetarium, Universarium Model IX. Manufacturer: Carl Zeiss, Germany. Intended Use: The instrument is a planetarium which will be used as part of an interactive educational program to teach visitors to the center about human space habitation and space exploration. Application accepted by Commissioner of Customs: January 9, 2001.

Docket Number: 01-002. Applicant: The University of Texas at Austin, Department of Chemistry and Biochemistry, Welch Hall, Room 3.202, Austin, TX 78712. Instrument: Electron Microscope, Model JEM-2010F. Manufacturer: JEOL Ltd., Japan. Intended Use: The instrument is intended to be used to study shape and morphology of small nanoparticles to determine crystal structure and defects of nanoparticles and the crystalline structure of polymers and its aggregates. In addition, the instrument will be used for studies of the following: (1) Binding of nanoparticles to specific sites on nanoparticles, (2) crystal structure and chemical composition of nanoparticles of oxides, (3) friction and defects on nanodevices including mechanical, electronic and photonic, (4) chemical composition and interbond distance on semiconductor and metallic quantum dots, and (5) chemical shifts and bonding in composite, polymer, metal and nanoparticle materials. The objectives of these investigations are the discovery and applications of new properties of nanoparticles, semiconductors, polymers and metals. The instrument will also be used to provide hands-on training and utilization for graduate students in chemistry, engineering and physics. Application accepted by Commissioner of Customs: January 9, 2001.

Docket Number: 01-003. Applicant: Children's Medical Center of Dallas, 1935 Motor Street, Dallas, TX 75235. Instrument: Electron Microscope, Model H-7500-1. Manufacturer: Hitachi, Japan. Intended Use: The instrument is intended to be used to examine predominantly human tissue biopsies as part of a diagnostic workup and study of human disease during the teaching of pathology residents. Application accepted by Commissioner of Customs: January 12, 2001.

Docket Number: 01-004. Applicant: University of California, One Shields Avenue, Davis, CA 95616-8711 . Instrument: Multielectrode Neuronal Manipulator, Model Eckhorn-7. Manufacturer: UWE Thomas Recording, Germany. Intended Use: The instrument is intended to be used to deliver fine microelectrodes into the brains of monkeys to study the brain signals that are generated by social and emotional interactions among animals. These studies are aimed at understanding the brain mechanism that causes emotional disorders such as depression, anxiety, social phobia and panic attacks in people. Application accepted by Commissioner of Customs: January 19, 2001.

Gerald A. Zerdy,
Program Manager, Statutory Import Programs Staff.

[FR Doc. 01-3318 Filed 2-7-01; 8:45 am]

BILLING CODE 3510-DS-P